DEPARTMENT OF COMMERCE

International Trade Administration

Rice University, Notice of Decision on Application for Duty-Free Entry of Scientific Instrument

This is a decision pursuant to Section 6(c) of the Educational, Scientific, and Cultural Materials Importation Act of 1966 (Pub. L. 89-651, as amended by Pub. L.106-36; 80 Stat. 897; 15 CFR part 301). Related records can be viewed between 8:30 A.M. and 5:00 P.M. in Room 2104, U.S. Department of Commerce, 14th and Constitution Ave, NW, Washington, D.C.

Comments: None received. Decision: Approved. We know of no instrument of equivalent scientific value to the foreign instruments described below, for such purposes as each is intended to be used, that was being manufactured in the United States at the time of its order.

Docket Number: 08-003. Applicant: Rice University, Houston, TX 77005. Instrument: Variable Temperature High Magnetic Field Nanometer-Precision Probe Station. Manufacturer: Attocube Systems AG, Germany. Intended Use: See notice at 73 FR 12375, March 7, 2008. Reasons: This instrument can supply a cryostate and magnet system with four independently nanopositionable probes. This variable temperature probe system is unique and is essential to enable a variety of physics and chemistry research efforts involving nanomaterials.

Dated: March 28, 2008.
Faye Robinson,
Director, Statutory Import Programs Staff, Import Administration.

[FR Doc. E8-6843 Filed 4-1-08; 8:45 am]

BILLING CODE 3510-DS-S